DEPARTMENT OF THE TREASURY

Agency Information Collection Activities; Proposed Collection; Submission for OMB Review; Beneficial Ownership Information Collection Request

AGENCY: Departmental Offices, U.S. Department of the Treasury.

ACTION: Notice of Information Collection; request for comments.

SUMMARY: The Department of the Treasury, on behalf of the Financial Crimes Enforcement Network (FinCEN), will submit the information collection associated with requests made to FinCEN by certain persons for beneficial ownership information, to the Office of Management and Budget (OMB) for review and clearance in accordance with the Paperwork Reduction Act of 1995 (PRA), on or after the date of publication of this notice. The details included in the information collection are listed below. The public is invited to submit comments on this information collection request.

DATES: Written comments must be received on or before August 22, 2024.

ADDRESSES: Written comments on the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

I. Statutory and Regulatory Provisions

FinCEN issued the Beneficial Ownership Information Access and Safeguards final rule (the “BOI Access Rule”) on December 22, 2023,¹ regarding access by authorized recipients to beneficial ownership information (BOI) that will be reported to FinCEN pursuant to Section 6403 of the Corporate Transparency Act (CTA), enacted into law as part of National Defense Authorization Act for Fiscal Year 2021 (NDAA).² The BOI Access Rule implements the strict protocols required by the CTA to protect sensitive personally identifiable information (PII) reported to FinCEN pursuant to the CTA and establish the circumstances in which specified recipients have access to beneficial ownership information (BOI), along with the data protection protocols and oversight mechanisms applicable to each recipient category. The disclosure of BOI to authorized recipients in accordance with appropriate protocols and oversight will help law enforcement and national security agencies prevent and combat money laundering, terrorist financing, tax fraud, and other illicit activity, as well as protect national security.

¹ FinCEN, Beneficial Ownership Information Access and Safeguards, 88 FR 88732 (Dec. 22, 2023), available at https://www.federalregister.gov/documents/2023/12/22/2023-27973/beneficial-ownership-information-access-and-safeguards.

² Specifically, the CTA is Title LXIV of the William M. (Mac) Thornberry National Defense Authorization Act for Fiscal Year 2021, Public Law 116-283 (Jan. 1, 2021). Division F of the NDAA is the Anti-Money Laundering Act of 2020, which includes the CTA. Section 6403 of the CTA, among other things, amends the Bank Secrecy Act (BSA) by adding a new section 5336, Beneficial Ownership Information Reporting Requirements, to subchapter II of chapter 53 of title 31, United States Code.

II. Paperwork Reduction Act of 1995 ³

³ Public Law 104-13, 44 U.S.C. 3506(c)(2)(A).

Title: Beneficial Ownership Information (BOI) Requests.

OMB Control Number: 1506-0077

Type of Review: New collection.

Description: As explained in the regulatory impact analysis (RIA) of the BOI Access Rule, the rule requires State, local, and Tribal agencies and financial institutions that access BOI to satisfy certain security and confidentiality requirements, including establishing certain standards and procedures, and developing and implementing safeguards. As a prerequisite for access to BOI, the rule also requires State, local, and Tribal agencies and financial institutions to provide a certification for each request for BOI (“BOI request”). Along with the certification, State, local, and Tribal agencies and financial institutions will also provide information by filling out data fields for each BOI request. These data fields are set out in the Appendix. While some data fields will be optional, others will be required. Self-regulatory organizations (SROs) cannot make BOI requests to FinCEN under the BOI Access Rule, but can receive BOI via redisclosure from other entities in some circumstances if they fulfill certain requirements.

Consistent with the requirements of the PRA, FinCEN carefully considered the comments received in response to the 60-day notice that proposed the information collection associated with BOI requests for public comment.⁴ The 60-day notice sought comment only on the burden for the information collection associated with such BOI requests, which corresponds to the burden associated with “submit[ting] written certification for each request that it meets certain requirements.” Further details about those burdens are set forth in the BOI Access Rule RIA (see Action G within Tables 1 and 2) and below. To provide greater clarity to authorized recipients on the data fields and certification that will be required when submitting BOI requests, this notice includes a revised Appendix (Beneficial Ownership Information (BOI) Request: Summary of Data Fields by Authorized Recipient). Also, as previously noted in the BOI Access Rule, FinCEN intends to provide additional details regarding the form and manner of BOI requests for all categories of authorized recipients through specific instructions and guidance.

⁴ 89 FR 5995 (Jan. 30, 2024).

The following analysis represents the entirety of the burden under OMB control number 1506-0077, which is associated with the BOI Access Rule. FinCEN previously solicited public comment on the full burden of the BOI Access Rule, including the certification requirement for the information collection associated with BOI access requests, as part of that rulemaking.

Form: BOI Request.

Affected Public: State, local and Tribal agencies, SROs, and financial institutions with customer due diligence requirements under applicable law, as defined in the BOI Access Rule. While Federal and foreign requesters are able to access BOI after meeting specific requirements, FinCEN does not include them in the PRA analysis because the regulations implementing the PRA define “person” as an individual, partnership, association, corporation (including operations of government-owned contractor-operated facilities), business trust, or legal representative, an organized group of individuals, a State, territorial, Tribal, or local government or branch thereof, or a political subdivision of a State, territory, Tribal, or local government or a branch of a political subdivision.⁵ For foreign requesters in particular, FinCEN assumes that such requests will be made at the national level.

⁵ See 5 CFR 1320.3(k).

Estimated Number of Respondents: 15,934 entities. This total is composed of an estimated 215 State, local, and Tribal agencies (of which 158 are State, local, and Tribal law enforcement agencies and 57 are State regulatory agencies), 3 SROs, and 15,716 financial institutions.⁶ While the requirements in the rule are only imposed on those that optionally access BOI, for purposes of PRA burden analysis, FinCEN assumes maximum participation from State, local, and Tribal agencies, SROs, and financial institutions.

⁶ See Table 1 in the RIA of the BOI Access Rule for the types of financial institutions covered by this notice. 88 FR 88789 (Dec. 22, 2023).

Frequency of Response: As required; varies depending on the requirement.

Estimated Time per Respondent: See “Hours per Entity” column in Table 1 below for estimated time for each requirement per respondent.

Estimated Total Annual Reporting and Recordkeeping Burden: FinCEN estimates that during year 1 the annual hourly burden will be 8,743,781 hours. In year 2 and onward, FinCEN estimates that the annual hourly burden will be 3,616,964 hours. The annual estimated burden hours for State, local, and Tribal entities and SROs is 2,268,789 hours in the first year, and 1,699,612 hours in year 2 and onward. As shown in Table 1 below, the hourly burden in year 1 for State, local, and Tribal agencies and SROs includes the hourly burden associated with the following requirements: entering into an agreement with FinCEN and establishing standards and procedures (Action B); establishing a secure system to store BOI (Action D); establishing and maintaining an auditable system of standardized records for requests (Action E); submitting written certification for each request that it meets certain requirements (Action G); restricting access to appropriate persons within the entity (Action H); conducting an annual audit and cooperate with FinCEN's annual audit (Action I); obtaining certification of standards and procedures, initially and then semi-annually, by the head of the entity (Action J); and providing annual reports on procedures (Action K). The hourly burden in year 2 and onward for State, local, and Tribal agencies and SROs is associated with the same requirements as year 1, with the exception of Action B because FinCEN expects this action will result in costs for these entities in year 1 only.

The annual estimated hourly burden for financial institutions is 6,474,992 hours in the first year and 1,917,352 hours in year 2 and onward. The hourly burden for financial institutions in year 1 is associated with the following: developing and implementing administrative and physical safeguards (Action A); developing and implementing technical safeguards (Action C); obtaining and documenting customer consent (Action F); submitting certification for each request that it meets certain requirements (Action G); undergoing training (Action H); complying with certain geographic restrictions (Action L); and notifying FinCEN if they receive an information demand from a foreign government (Action M). The hourly burden in year 2 and onward for financial institutions is associated only with the requirements for Actions F, G, and H because FinCEN expects the other actions will result in costs for these entities in year 1 only.

Annual estimated burden declines in year 2 and onward because State, local, and Tribal agencies, SROs, and financial institutions no longer need to complete Actions A and B, and have a lower hourly burden for Actions E and F. State, local, and Tribal law enforcement agencies have a lower hourly burden for Action G. Table 1 lists the type of entity, the number of entities, the hours per entity, and the total hourly burden by action. For Actions A, B, C, D, E, F, I, J, K, L, and M the hours per entity are the maximum of the range estimated in the cost analysis of the RIA. For Action G and H, the hours per entity calculations are specified in footnotes to Table 1. Total annual hourly burden is calculated by multiplying the number of entities by the hours per entity for each action. In each subsequent year after initial implementation, FinCEN estimates that the total hourly annual burden is 3,616,964. This results in a 5-year average burden estimate of approximately 4,642,327 hours.⁷

⁷ The 5-year average equals the sum of (Year 1 burden hours of 8,743,781 + Year 2 burden hours of 3,616,964 + Year 3 burden hours of 3,616,964 + Year 4 burden hours of 3,616,964 + Year 5 burden hours of 3,616,964) divided by 5.

This notice seeks comment on the estimated total annual reporting and recordkeeping burden for the information collection associated with BOI requests, specifically the requirement to submit written certification for each request that it meets certain requirements (Action G in Table 1 below).⁸ FinCEN previously provided notice and an opportunity for public comment on all actions that constitute the reporting and recordkeeping burden associated with the BOI Access Rule, including the certification requirement, as well as the estimated total annual burden, through the BOI Access Rule rulemaking. As explained above, FinCEN is issuing this notice with regard to the information collection associated with BOI requests; therefore, this notice seeks comment only on the certification requirement.

⁸ As noted previously, SROs will not have direct access to BOI, but may receive BOI through redisclosure. Accordingly, SROs may not need to meet every requirement that they are described as meeting in Tables 1 and 2 to receive BOI. However, except where noted in those tables, FinCEN has generally assessed similar costs for SROs as for state, local, and Tribal agencies for analytical purposes. This analysis thus may overestimate the burden on SROs, but FinCEN lacks reliable data from which to formulate SRO-specific estimates for receiving BOI.

Table 1—Annual Hourly Burden Associated With Requirements
Action | Type of entity | Number of entities | Hours per entity | Total annual hourly burden
A. Develop and implement administrative and physical safeguards | Financial institutions | 15,716 | 240 in Year 1; 0 in Years 2+ | 3,771,840 in Year 1; 0 in Years 2+.
B. Enter into an agreement with FinCEN and establish standards and procedures | State, local, and Tribal agencies and SROs | 218 | 300 in Year 1; 0 in Years 2+ | 65,400 in Year 1; 0 in Years 2+.
C. Develop and implement technical safeguards | Financial institutions | 15,716 | 0 in Year 1; 0 in Years 2+ | 0 in Year 1; 0 in Years 2+.
D. Establish a secure system to store BOI | State, local, and Tribal agencies and SROs | 218 | 300 in Year 1; 4 in Years 2+ | 65,400 in Year 1; 872 in Years 2+.
E. Establish and maintain an auditable system of standardized records for requests | State, local, and Tribal agencies and SROs | 218 | 200 in Year 1; 20 in Years 2+ | 43,600 in Year 1; 4,360 in Years 2+.
F. Obtain and document customer consent | Financial institutions | 15,716 | 70 in Year 1; 20 in Years 2+ | 1,100,120 in Year 1; 314,320 in Years 2+.
G. Submit certification for each request that it meets certain requirements ¹ | Financial institutions | 15,716 | 94 in Year 1; 94 in Years 2+ | 1,474,161 in Year 1; 1,474,161 in Years 2+.
G. Submit written certification for each request that it meets certain requirements, including court authorization | State, local, and Tribal law enforcement | 158 | 12,975 in Year 1; 10,443 in Years 2+ | 2,050,003 in Year 1; 1,649,994 in Years 2+.
G. Submit written certification for each request that it meets certain requirements | State regulatory agencies and SROs | 60 | 125 in Year 1; 125 in Years 2+ | 7,500 in Year 1; 7,500 in Years 2+.
H. Undergo training ² | Financial institutions | 15,716 | 8 in Year 1; 8 in Years 2+ | 128,871 in Year 1; 128,871 in Years 2+.
H. Restrict access to appropriate persons within the entity, which specifies that appropriate persons will undergo training ³ | State, local, and Tribal agencies and SROs | 218 | 9 in Year 1, 9 in Years 2+ | 2,006 in Year 1; 2,006 in Years 2+.
I. Conduct an annual audit and cooperate with FinCEN's annual audit | State, local, and Tribal agencies and SROs | 218 | 160 in Year 1; 160 in Years 2+ | 34,880 in Year 1; 34,880 in Years 2+.
J. Obtain certification of standards and procedures initially and then semi-annually, by the head of the entity | State, local, and Tribal agencies and SROs | 218 | Included in I. | Included in I.
K. Provide initial and then an annual report on procedures | State, local, and Tribal agencies and SROs | 218 | Included in I. | Included in I.
L. Comply with certain geographic restrictions | Financial institutions | 15,716 | 0 in Year 1; 0 in Years 2+ | 0 in Year 1; 0 in Years 2+.
M. Notify FinCEN of information demand from foreign government | Financial institutions | 15,716 | 0 in Year 1; 0 in Years 2+ | 0 in Year 1; 0 in Years 2+.
Total Annual Hourly Burden |  |  |  | 8,743,781 in Year 1; 3,616,964 in Years 2+ (Average of 5,325,903 hours across first 3 years).
¹ For all types of entities, the hours per entity for Action G is the per entity share of the aggregate burden estimated in the RIA.
² For financial institutions, the hours per entity for Action H equals the weighted average of the large and small financial institutions' maximum burden estimated in the RIA.
³ For State, local, and Tribal agencies and SROs, the hours per entity for Action H equals the per entity share of the aggregate burden.

Estimated Total Annual Reporting and Recordkeeping Cost: As described in Table 3 of the BOI Access Rule RIA, FinCEN calculated the fully loaded hourly wage for each type of affected entity type.⁹ Using these estimated wages, the total cost of the annual burden in year 1 is $868,200,270. In year 2 and onward, FinCEN estimates that the total cost of the annual burden is $339,309,502, owing to Actions A and B only imposing burdens in year 1, Actions D and E having lower annual per entity burdens, and Action G having lower burden per request for State, local, and Tribal law enforcement agencies. The annual estimated cost for State, local, and Tribal agencies and SROs is $181,851,118 in the first year and $136,070,190 in year 2 and onward. The annual estimated cost for financial institutions is $686,349,152 in the first year and $203,239,312 in year 2 and onward. The 5-year average annual cost estimate is $445,087,656.¹⁰

⁹ 88 FR 88791 (Dec. 22, 2023).

¹⁰ The 5-year average equals the sum of (Year 1 costs of $868,200,270 + Year 2 costs of $339,309,502 + Year 3 costs of $339,309,502 + Year 4 costs of $339,309,502 + Year 5 costs of $339,309,502) divided by 5.

This notice seeks comment on the estimated total annual reporting and recordkeeping cost for the information collection associated with BOI requests, specifically the requirement to “submit written certification for each request that it meets certain requirements” (Action G in Table 2 below). FinCEN previously provided notice and an opportunity for public comment on all actions that constitute the reporting and recordkeeping cost associated with the BOI Access Rule, including the certification requirement, as well as the estimated total annual reporting and recordkeeping cost, through the BOI Access Rule rulemaking. As FinCEN is issuing this notice with regard to the information collection associated with BOI requests, this notice seeks comment only on the certification requirement.

Table 2—Annual Cost Associated With Requirements
Action | Type of entity | Hourly wage | Total annual hourly burden | Total annual cost
A. Develop and implement administrative and physical safeguards | Financial institutions | $106 | 3,771,840 in Year 1; 0 in Years 2+ | $399,815,040 in Year 1; $0 in Years 2+.
B. Enter into an agreement with FinCEN and establish standards and procedures | State, local, and Tribal agencies | 80 | 65,400 in Year 1; 0 in Years 2+ | $5,232,000 in Year 1; $0 in Years 2+.
C. Develop and implement technical safeguards | Financial institutions | 106 | 0 in Year 1; 0 in Years 2+ | $0 in Year 1; $0 in Years 2+.
D. Establish a secure system to store BOI | State, local, and Tribal agencies | 80 | 65,400 in Year 1; 872 in Years 2+ | $5,232,000 in Year 1; $69,760 in Years 2+.
E. Establish and maintain an auditable system of standardized records for requests | State, local, and Tribal agencies | 80 | 43,600 in Year 1; 4,360 in Years 2+ | $3,488,000 in Year 1; $348,800 in Years 2+.
F. Obtain and document customer consent | Financial institutions | 106 | 1,100,120 in Year 1; 314,320 in Years 2+ | $116,612,720 in Year 1; $33,317,920 in Years 2+.
G. Submit certification for each request that it meets certain requirements | Financial institutions | 106 | 1,474,161 in Year 1; 1,474,161 in Years 2+ | $156,261,066 in Year 1; $156,261,066 in Years 2+.
G. Submit written certification for each request that it meets certain requirements, including court authorization | State, local, and Tribal law enforcement | 80 | 2,050,003 in Year 1; 1,649,994 in Years 2+ | $164,000,240 in Year 1; $131,999,520 in Years 2+.
G. Submit written certification for each request that it meets certain requirements | State regulatory agencies | 80 | 7,500 in Year 1; 7,500 in Years 2+ | $600,000 in Year 1; $600,000 in Years 2+.
H. Undergo training | Financial institutions | 106 | 128,871 in Year 1; 128,871 in Years 2+ | $13,660,326 in Year 1; $13,660,326 in Years 2+.
H. Restrict access to appropriate persons within the agency, which specifies that appropriate persons will undergo training | State, local, and Tribal agencies | 80 | 2,006 in Year 1; 2,006 in Years 2+ | $160,480 in Year 1; $160,480 in Years 2+.
I. Conduct an annual audit and cooperate with FinCEN's annual audit | State, local, and Tribal agencies | 80 | 34,880 in Year 1; 34,880 in Years 2+ | $2,790,400 in Year 1; $2,790,400 in Years 2+.
J. Obtain certification of standards and procedures initially and then semi-annually, by the head of the entity | State, local, and Tribal agencies | 80 | Included in I | Included in I.
K. Provide initial and then an annual report on procedures | State, local, and Tribal agencies | 80 | Included in I | Included in I.
L. Comply with certain geographic restrictions | Financial institutions | 106 | 0 in Year 1; 0 in Years 2+ | $0 in Year 1; $0 in Years 2+.
M. Notify FinCEN of information demand from foreign government | Financial institutions | 106 | 0 in Year 1; 0 in Years 2+ | $0 in Year 1; $0 in Years 2+.
Actions B, D, E, G, H, I-K | SRO | 106 | 3,283 in Year 1; 955 in Years 2+ | $347,998 in Year 1; $101,230 in Years 2+.
Total Annual Cost |  |  |  | $868,200,270 in Year 1; $339,309,502 in Years 2+ (Average of $515,606,425 across first 3 years).

Authority: 44 U.S.C. 3501 et seq.

Melody Braswell,
Treasury PRA Clearance Officer.

Appendix—Beneficial Ownership Information (BOI) Request: Summary of Data Fields by Authorized Recipient

Note: Data fields that must be filled in to start a search are identified with the * symbol next to the data field. Italicized text provides a description and/or explanation of lines and response options for purposes of this PRA notice.

I. Financial Institutions

Proposed Data Fields and Certification

Search for Beneficial Ownership Information

* Reporting company legal name

* Reporting company tax identification number type (select one from list of options)

• EIN (Employer Identification Number)

• SSN/ITIN (Social Security Number/Individual Taxpayer Identification Number)

• Foreign (if “foreign” is selected, a drop down menu for “country/jurisdiction” populates automatically; select from list of countries/jurisdictions)

* Reporting company tax identification number

* Certification

I certify on behalf of the financial institution making this request that: (1) this information is requested to facilitate the financial institution's compliance with customer due diligence requirements under applicable law, as defined in 31 CFR 1010.955(b)(4)(i); (2) the financial institution has obtained and documented the consent of the reporting company to request this information from FinCEN; and (3) the financial institution has fulfilled all other requirements of 31 CFR 1010.955(d)(2).

[Select “I agree”]

II. State, Local, and Tribal Law Enforcement Agencies

Proposed Data Fields and Certification

New Justification

* Agency Reference (agency's internal reference name for BOI request)

* Court authorization description (description of the information the court has authorized the agency to seek)

* Name of court of competent jurisdiction

* Date of court authorization (mm/dd/yyyy)

Checkbox Request is being conducted on behalf of another person in the same agency (select this checkbox if the BOI request is made on behalf of another person in the same agency; provide the following information if this checkbox is selected: * first name of requester; middle name of requester; * last name of requester; title; city; * country/jurisdiction; state; ZIP/foreign postal code)

* Certification

I certify that a court of competent jurisdiction has authorized my agency to seek this information in a criminal or civil investigation and that the requested information is relevant to the criminal or civil investigation.

[Select “I agree”]

III. State Regulatory Agencies

Proposed Data Fields and Certification

Search Beneficial Ownership Information Requested by Financial Institutions

To begin a search, provide a Financial Institution Name or Financial Institution Employer Identification Number (EIN). To further refine your search, you may enter a Reporting Company Legal Name, Reporting Company Tax Identification Number, and/or a date range in which the financial institution searched for beneficial ownership information.

Financial Institution

Financial Institution EIN (Employer Identification Number)

Reporting Company Legal Name

Reporting Company Tax Identification Number

Start Date (mm/dd/yyyy) (start of date range of financial institution search for beneficial ownership information)

End Date (mm/dd/yyyy) (end of date range of financial institution search for beneficial ownership information)

*Certification

I certify that my agency is authorized by law to assess, supervise, enforce, or otherwise determine the compliance of a relevant financial institution with customer due diligence requirements under applicable law, as defined in 31 CFR 1010.955(b)(4)(i), and that my agency will use the requested information solely for such purposes.

[Select “I agree”]

[FR Doc. 2024-16174 Filed 7-22-24; 8:45 am]

BILLING CODE 4810-02-P